DEPARTMENT OF COMMERCE

International Trade Administration

[A-423-808]

Notice of Extension of Time Limit for Preliminary Results of Administrative Antidumping Review: Stainless Steel Plate in Coils from Belgium

AGENCY: Import Administration, International Trade Administration, Department of Commerce.

EFFECTIVE DATE: December 30, 2003.

FOR FURTHER INFORMATION CONTACT: Elfi Blum or Scot Fullerton at (202) 482-0197 or (202) 482-1386, respectively; Office of Antidumping/Countervailing Duty Enforcement VII, Import Administration, International Trade Administration, U.S. Department of Commerce, 14th Street and Constitution Avenue, NW, Washington, D.C. 20230.

Background

On May 21, 1999, the Department of Commerce (the Department) published in the Federal Register the antidumping duty order on stainless steel plate in coils from Belgium (64 FR 27756). On May 30, 2003, in accordance with Section 751(a) of the Tariff Act of 1930, as amended (the Act) and section 19 CFR 351.213(b) of the Department's regulations, Allegheny Ludlum, North American Stainless, Butler-Armco Independent Union, Zanesville Armco Independent Union, and the United Steelworkers of America, AFL-CIO/CLC (collectively, petitioners) requested a review of the antidumping duty order on stainless steel plate in coils from Belgium for ALZ N.V. (ALZ) and its affiliate Arcelor International America Inc. for the period May 1, 2002 through April 30, 2003. On July 1, 2003, we published a notice of “Initiation of Antidumping Review.” See 68 FR 39055.

On September 11, 2003, Ugine & ALZ Belgium (U&A Belgium) submitted its response to section A of the Department's questionnaire. On October 2, 2003, U&A Belgium submitted its response to sections B and D of the Department's questionnaire. On October 6, 2003, U&A Belgium submitted its response to section C of the Department's questionnaire. On October 9, 2003, U&A Belgium requested that the Department consider U&A Belgium to be the successor to ALZ. On October 14, 2003, U&A Belgium submitted a revised version of its section C questionnaire response. On October 30, 2003, U&A Belgium requested that the Department extend the deadline for issuance of the preliminary results of review to May 31, 2004. On November 21, 2003, petitioners submitted comments concerning U&A Belgium's response to sections B and C of the Department's questionnaire. On December 3, 2003, U&A Belgium submitted corrections to certain clerical errors contained in U&A Belgium's questionnaire response.

Extension of Time Limits for Preliminary Results

Pursuant to section 751(a)(3)(A) of the Act and section 351.213(h)(2) of the Department's regulations, the Department may extend the deadline for completion of the preliminary results of a review if it determines that it is not practicable to complete the preliminary results within the statutory time limit of 245 days from the last day of the anniversary month of the order for which the administrative review was requested. In this review, the Department must determine whether the respondent is the legal successor to another company by examining a number of factors. Because of the complexity and timing of this and other issues in this case, it is not practicable to complete this review within the time limit mandated by section 751(a)(3)(A) of the Act.

Consequently, in accordance with sections 751(a)(3)(A) of the Act and section 351.213(h)(2) of the Department's regulations, the Department is extending the time limit for the completion of the preliminary results to 365 days from the last day of the anniversary month of the order. As the 365th day falls on a Sunday, and the following Monday is a federal holiday, the preliminary results will now be due no later than June 1, 2004.

Dated: December 17, 2003.
Joseph A. Spetrini,
Deputy Assistant Secretary for Import Administration, Group III.

[FR Doc. 03-32070 Filed 12-29-03; 8:45 am]

BILLING CODE 3510-DS-S